ENVIRONMENTAL PROTECTION AGENCY

[ER-FRL-6640-8]

Environmental Impact Statements; Notice of Availability

Responsible Agency: Office of Federal Activities, General Information (202) 260-5073 OR (202) 260-5075.

Weekly receipt of Environmental Impact Statements

Filed May 26, 2003 Through May 30, 2003

Pursuant to 40 CFR 1506.9.

EIS No. 030251, Final EIS, NPS, MT, Glacier National Park—Going-to-Sun Road Rehabilitation Plan to Protect and Preserve a National Historic Landmark, Waterton-Glacier International Peace Park, The World's First International Peace Park, A World Heritage Site, MT, Wait Period Ends: June 30, 2003, Contact: Mary Riddle (406) 888-7898. The above NPS EIS should have appeared in the 5/30/2003 Federal Register. The 30-day Wait Period is Calculated from 5/30/2003.

EIS No. 030252, Final EIS, AFS, IL, Natural Area Trails Project, Construction, Reconstruction, Maintenance and Designation of Trails for Hikers and Equestrian Use, Approval of Site-Specific Mitigation and/or Monitoring Standards, Shawnee National Forest, Jackson, Pope, Johnson, Union, Hardin and Saline Counties, IL, Wait Period Ends: July 7, 2003, Contact: Richard Johnson (618) 253-7114.

EIS No. 030253, Draft EIS, FHW, IL, U.S. Route 20 (FAP 301) Project, Construction from Illinois Route 84 North of Galena to Bolton Road Northwest of Freeport, NPDES Permit and U.S. Army COE Section 404 Permit, Jo Daviess and Stephenson Counties, IL Comment Period Ends: July 21, 2003, Contact: Norman R. Stoner (217) 492-4640.

EIS No. 030254, Draft Supplement, DOE, TN, GA, TX, SC, MO, Programmatic EIS—Stockpile and Management for a Modern Pit Facility (MPF) Construction and Operation, Site Location: Savannah River Site, SC; Los Alamos Site, NM; Nevada Test Site; Carlsbad Site, NM; and Pantex Site, TX and Plutonium Pit Manufacturing Capabilities Upgrading at Los Alamos National Laboratory (LANL), NM, Contact: James Rose (202) 586-5484. This document is available on the Internet at: http://www.mpfeis.com.

EIS No. 030255, Final EIS, MMS, AL, MS, TX, FL, LA, Eastern Gulf of Mexico Outer Continental Shelf Oil and Gas Lease Sales 189 (proposed for 2003) and 197 (proposed for 2005) Leasing Program 2002-2007, Eastern Planning Area, Counties and Parishes of TX, LA, MS, AL and FL, Wait Period Ends: July 7, 2003, Contact: Dr. Kay Marano Briggs (703) 787-1646.

EIS No. 030256, Final EIS, AFS, OR, Rimrock Ecosystem Restoration Project, To Promote Healthy and Sustainable Watershed Conditions, Implementation, Umatilla National Forest, Heppner Ranger District, Grant, Morrow and Wheeler Counties, OR, Wait Period Ends: July 7, 2003, Contact: Dave Kendrick (541) 676-9187. This document is available on the Internet at: http://www.fs.fed.us/r6/uma/nepa/readroom.htm.

EIS No. 030257, Draft EIS, AFS, MT, Logan Creek Ecosystem Restoration Project, To Reduce Hazardous Fuel across the Landscape, Restore or Maintain Vegetation Management, Flathead National Forest, Tally Lake Ranger District, Flathead County, MT, Comment Period Ends: July 21, 2003, Contact: Bryan Donner (406) 863-5408.

Amended Notices

EIS No. 030216, Draft EIS, FHW, OH, OH-161/37 Improvement, from OH-161(New Albany Bypass) to west of OH-161/37 Interchange with OH-16, Funding, Franklin and Licking Counties, OH, Comment Period Ends: July 18, 2003, Contact: Roger Ryder (614) 469-6896. Revision of FR notice published on 05/16/2003: Change in Contact Person Name and Telephone Number.

EIS No. 030238, Draft EIS, DOE, OR, Northeast Oregon Hatchery Program, Grande Ronde—Imnaha Spring Chinook Hatchery Modification and Modernization of Two Existing Hatchery Facilities and Construction of Three New Auxiliary Hatchery Facilities, Wallowa County, OR, Comment Period Ends: July 7, 2003, Contact: Mickey Carter (503) 230-5885. Revision of FR Notice Published on 5/23/2003: Correction of Lead Agency from DOA to DOE.

EIS No. 030247, Draft EIS, CGD, LA, Port Pelican Deepwater Port Construction and Operation, License Approval, Vermillion Lease Block 140 on the Continental Shelf in the Gulf of Mexico southwest of Freshwater City, LA, Comment Period Ends: July 15, 2003, Contact: Mark Prescott (202) 267-0225. Revision of FR notice published on 5/30/2003: Correction of Title Block 40 Should be Block 140.

Dated: June 3, 2003.
B. Katherine Biggs,
Associate Director, NEPA Compliance Division, Office of Federal Activities.

[FR Doc. 03-14331 Filed 6-5-03; 8:45 am]

BILLING CODE 6560-50-P